INTERNATIONAL TRADE COMMISSION

[USITC SE-01-038]

Meetings; Sunshine Act

AGENCY HOLDING THE MEETING: United States International Trade Commission.

TIME AND DATE: November 7, 2001 at 11:00 a.m.

PLACE: Room 101, 500 E Street SW., Washington, DC 20436, Telephone: (202) 205-2000.

STATUS: Open to the public.

MATTERS TO BE CONSIDERED: 1. Agenda for future meeting: none.

2. Minutes.

3. Ratification List.

4. Inv. Nos. 701-TA-402 and 731-TA-892-893 (Final)(Honey from Argentina and China)—briefing and vote. (The Commission is currently scheduled to transmit its determination and Commissioners' opinions to the Secretary of Commerce on November 19, 2001).

5. Outstanding action jackets: none.

In accordance with Commission policy, subject matter listed above, not disposed of at the scheduled meeting, may be carried over to the agenda of the following meeting.

By order of the Commission.
Issued: October 29, 2001.
Donna R. Koehnke,
Secretary.

[FR Doc. 01-27569 Filed 10-30-01; 12:36 pm]

BILLING CODE 7020-02-P